DEPARTMENT OF TRANSPORTATION

Federal Aviation Administration

Fifth Meeting—Special Committee 222: Inmarsat Aeronautical Mobile Satellite (Route) Services

AGENCY: Federal Aviation Administration (FAA), DOT.

ACTION: Notice of RTCA Special Committee 222: Inmarsat Aeronautical Mobile Satellite (Route) Services meeting.

SUMMARY: The FAA is issuing this notice to advise the public of a meeting of RTCA Special Committee 222: Inmarsat Aeronautical Mobile Satellite (Route) Services.

DATES: The meeting will be held Tuesday, April 20, 2010 from 9 a.m.-4 p.m. Pacific Daylight Time.

Important note to SC-222 Participants. The 5th Plenary Session will be held in conjunction with the Inmarsat Aero Conference in San Francisco (see below). As of the date of this Meeting Announcement, the agenda for the 5th Plenary session is sparse. We have already changed the meeting from two days to one, and the current expectation is that all productive business may be concluded in less than the allotted time. As a result, provision for participation by telecon and WebEx will be provided for committee members who are not attending the Conference.

ADDRESSES: Hosted by Inmarsat in conjunction with the Inmarsat Aero Conference at the Four Seasons Hotel, 757 Market Street, San Francisco, CA 94103, USA. Rooms may be reserved at the conference rate by contacting the hotel directly at 415-633-3490 and referring to the Inmarsat Aero Conference.

An RSVP to Chuck LaBerge (laberge.engineering@gmail.com) and Daryl McCall (dmccall@fastekintl.com) is requested by close of business Monday, April 13, 2010. Members who plan to use the telecon/WebEx are encouraged to reply noting their intention.

Dress: Business Casual.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 222: Inmarsat Aeronautical Mobile Satellite (Route) Services.

The agenda will include:

Tuesday, April 20, 2010—Telephone bridge available at 8:45 PDT; details posted to SC-222 Web site by Monday, April 19, 2010.

• Opening Plenary (Introductions and Opening Remarks).

• Review and Approval of SC-222/WP-038, Summary for the 4th Meeting of Special Committee 222 held at the SkyTerra, Reston, VA.

• Review and Approval of the Agenda for the 5th Meeting of SC-222, WP-040.

• Old Business.

• Review of/reports for the currently active Action Items regarding SBB Safety issues per the minutes of the 4th Plenary Meeting.

• Working Papers, Discussions regarding ATCt issues.

• SC-222/WP-039 Analysis of Potential ATCt Interference to Inmarsat Aeronautical Services.

• Additional working papers as may be provided in advance of the meeting.

Note: Working papers posted to the SC-222 Web Site on before April 13 will receive first priority in review. Additional working papers will be reviewed in the order in which they were received. To obtain a new WP number, contact Dr. LaBerge at laberge.engineering@gmail.com. To post a new WP to the Web site, provide a PDF version to Mr. McCall at dmccall@fastekintl.com, with a copy to Dr. LaBerge.

• Additional working papers as may be provided at the meeting.

• Other Business.

• Review and adjustment of document delivery schedule, based on working paper discussion.

• Review of Assignments and Action Items.

• Date and Location for the 6th Meeting of SC-222. Tentatively as a joint meeting with AEEC AGCS in Annapolis, MD, August 2-6, 2010.

• Adjourn (no later than p.m.).

Note: The Inmarsat Aero Conference starts at 6 PM PDT on Tuesday, April 20, 2010.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 24, 2010.
Francisco Estrada C.,
RTCA Advisory Committee.

[FR Doc. 2010-7085 Filed 3-29-10; 8:45 am]

BILLING CODE 4910-13-P